DEPARTMENT OF AGRICULTURE

Forest Service

Yavapai County Resource Advisory Committee

AGENCY: Forest Service, USDA.

ACTION: Notice of meeting.

SUMMARY: The Yavapai County Resource Advisory Committee (RAC) will meet in Prescott, Arizona. The committee is meeting as authorized under the Secure Rural Schools and Community Self-Determination Act (Pub. L. 110-343) and in compliance with the Federal Advisory Committee Act. The purpose of the meeting is to orientate new committee members to the Secural Rural Schools Act, roles of members, guidelines for Title II, and the Federal Advisory Committee Act.

DATES: The meeting will be held August 19, 2010; 9 a.m. to 4 p.m.

ADDRESSES: The meeting will be held at the Prescott Fire Center, 2400 Melville Dr, Prescott, AZ 86301.

FOR FURTHER INFORMATION CONTACT: Debbie Maneely, RAC Coordinator, Prescott National Forest, 344 S. Cortez, Prescott, AZ 86301; (928) 443-8130 or dmaneely@fs.fed.us.

SUPPLEMENTARY INFORMATION: The meeting is open to the public. The following business will be conducted: (1) Welcome and introductions; (2) overview of Secure Rural Schools Act, Title II funding and timeline; (3) develop RAC charter and operating guidelines; (4) discussion of Committee members and Designated Federal Official roles; (5) selection of RAC Chairperson; (6) next meeting agenda, location, and date.

Dated: July 23, 2010.
Cynthia Moody
Acting Forest Supervisor.

[FR Doc. 2010-18632 Filed 7-28-10; 8:45 am]

BILLING CODE 3410-11-P